DEPARTMENT OF JUSTICE

Notice of Lodging of Consent Decree Pursuant to the Clean Water Act

In accordance with 28 CFR 50.7, 38 FR 19029, notice is hereby given that on July 2, 2012, a Consent Decree was lodged with the United States District Court for the District of Massachusetts in United States v. Fairhaven Shipyard Companies, Inc., Civil Action No. 12-CV-11191-MBB. A complaint in the action was also filed simultaneously with the lodging of the Consent Decree. In the complaint the United States, on behalf of the U.S. Environmental Protection Agency (EPA), alleges that the defendant Fairhaven Shipyard Companies, Inc. (“Fairhaven Shipyard”) violated Sections 301, 311, and 402 of the Clean Water Act, 33 U.S.C. 1311, 1321, and 1342, applicable regulations relating to the discharge of process water and storm water, and applicable oil pollution prevention regulations, at Fairhaven Shipyard's two facilities at 50 Fort Street and 32 Water Street in Fairhaven, Massachusetts. The consent decree requires Fairhaven Shipyard to pay a civil penalty of $175,000 and undertake measures to achieve compliance with the above-referenced provisions of the Clean Water Act and applicable regulations at the two facilities.

For a period of thirty (30) days from the date of this publication, the United States Department of Justice will receive comments relating to the proposed Consent Decree. Comments should be addressed to the Assistant Attorney General for the Environment and Natural Resources Division, and should either be emailed to pubcomment-ees.enrd@usdoj.gov or mailed to P.O. Box 7611, Washington, DC 20044-7611. The comments should refer to United States v. Fairhaven Shipyard Companies, Inc., D.J. Ref.# 90-5-1-1-10216.

During the public comment period, the proposed Consent Decree may be examined at the office of the United States Attorney, Suite 9200, 1 Courthouse Way, Boston, Massachusetts 02110, and at the Region I office of the Environmental Protection Agency, One Congress Street, Suite 1100, Boston, Massachusetts 02114. The proposed Consent Decree may also be obtained at the following Department of Justice Web site: http://www.usdoj.gov/enrd/Consent_Decrees.html. A copy may also be obtained by mail from the Department of Justice Consent Decree Library, P.O. Box 7611, Washington, DC 20044-7611 or by faxing or emailing a request to “Consent Decree Copy” (EESCDCopy.enrd@usdoj.gov), fax no. (202) 514-0097, phone confirmation number (202) 514-5271. If requesting a copy from the Consent Decree Library by mail, please enclose a check in the amount of $11.75 ($.25 per page) payable to the U.S. Treasury, or if be email or fax, forward a check in that amount to the Consent Decree Library at the address given above.

Maureen Katz,
Assistant Chief, Environmental Enforcement Section, Environment & Natural Resources Division.

[FR Doc. 2012-18252 Filed 7-25-12; 8:45 am]

BILLING CODE 4410-15-P